DEPARTMENT OF COMMERCE

National Oceanic and Atmospheric Administration

50 CFR Part 665

[I.D. 021507A]

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its 137th meeting to consider and take actions on fishery management issues in the Western Pacific Region.

DATES: The 137th Council meeting and public hearings will be held on March 13 - 16, 2007. For specific times and the agenda, see SUPPLEMENTARY INFORMATION.

ADDRESSES: The 137th Council meeting and public hearings will be held at the Ala Moana Hotel, 410 Atkinson Drive, Honolulu, HI 96814-4722; telephone: 808-955-4811.

FOR FURTHER INFORMATION CONTACT: Kitty M. Simonds, Executive Director; telephone: 808-522-8220.

SUPPLEMENTARY INFORMATION: In addition to the agenda items listed here, the Council will hear recommendations from other Council advisory groups. Public comment periods will be provided throughout the agenda. The order in which agenda items are addressed may change. The Council will meet as late as necessary to complete scheduled business.

Schedule and Agenda for Council Standing Committee Meetings

Tuesday, March 13, 2007

Standing Committee

1. 8 a.m. - 10 a.m. Marianas Archipelago Ecosystem Standing Committee

2. 10 a.m. - 12 noon Hawaii Archipelago Ecosystem Standing Committee

3. 1:30 p.m. - 3 p.m. American Samoa Archipelago Ecosystem Standing Committee

4. 3 p.m. - 4 p.m. Pelagics and International Ecosystem Standing Committee

5. 4 p.m. - 6 p.m. Program Planning/Research & Executive/Budget Standing Committee

The agenda during the full Council meeting will include the items listed here.

Schedule and Agenda for Council Meeting

9 a.m. - 5 p.m. Wednesday, March 14, 2007

1. Introductions

2. Approval of Agenda

3. Approval of 135th and 136th Meeting Minutes

4. Agency Reports

A. NMFS

1. Pacific Islands Regional Office (PIRO)

2. Pacific Islands Fisheries Science Center (PIFSC)

B. NOAA General Counsel

C. United States Fish and Wildlife Service (USFWS)

5. Mariana Archipelago

A. Island Area Reports

1. Commonwealth of the Northern Mariana Islands (CNMI)

2. Guam

B. Enforcement Reports

1. CNMI Enforcement Agency Report

2. Guam Enforcement Agency Report

3. United States Coast Guard (USCG) Enforcement Report

4. NMFS Office for Law Enforcement (OLE) Report

5. Status of Violations

C. Micronesian Challenged

D. CNMI/Guam Bottomfish Assessment

E. Mariana Turtle Research

F. Federal Monitoring and Reporting Program for CNMI

G. Mariana Community Initiatives

1. Report on CNMI Advisor and Regional Ecosystem Advisory Council (REAC) Meetings

2. Report on Guam Advisor and REAC Meetings

3. Report on Guam Voluntary Data Collection Program

H. Scientific and Statistical Committee (SSC) Recommendations

I. Standing Committee Recommendations

J. Public Comment

K. Council Discussion and Action

6. American Samoa Archipelago

A. Island Area Reports

B. Enforcement Reports

1. Agency Enforcement Report

2. USCG Enforcement Report

3. NMFS OLE Report

4. Status of Violations

5. United States Cook Islands Longline Fishing Access

C. Status of Products from American Samoa/Samoa MOU

D. Status of Fisheries Development in American Samoa

1. Impact to New Minimum Wage Laws

2. Economic Study

E. Report on Protected Species Interaction in American Samoa Longline Fishery

F. American Samoa Turtle Research

G. American Samoa Bottomfish Stock Assessment

H. American Samoa Community Initiatives

1. Advisory Group Meetings

2. Legislative Actions

H. SSC Recommendations

I. Standing Committee Recommendations

J. Public Comment

K. Council Discussion and Action

9 a.m. 5 p.m. Thursday, March 15, 2007

9. Hawaii Archipelago

A. Island Area Reports

B. Enforcement Reports

1. Agency Enforcement Report

2. USCG Enforcement Report

3. NMFS OLE Report

4. Status of Violations

5. Automatic Identification System Pilot Project Report

6. NMFS Vessel Monitoring System (VMS) Policy

7. Status of Electronic Logbook Reporting Certification Program

C. Protected Resources

1. Hawaiian Green Sea Turtle Recovery

2. Monk Seal Fatty Acid Study

3. Marine Mammal Advisory Committee Recommendations

D. NOAA Updates

1. Humpback Whale Sanctuary five-year plan

2. Pacific Services Center

E. Northwestern Hawaiian Islands (NWHI) Monument

1. Hawaii Longline Transit Notification in NWHI

2. NWHI Bottomfish

a. Heleuma “Anchoring”

b. Hoomau Hookahua “Combining” (ACTION ITEM)

F. Hawaii Bottomfish Research, Monitoring, and Compliance Plan

G. Status of Hawaii Bottomfish Overfishing Actions

1. State of Hawaii Bottomfish Action

2. Federal Actions (ACTION ITEM)

H. Hawaii Community Initiatives

1. Hoohanohano I Na Kupuna Puwalu III Report

2. Report on Development of Hawaii CDP

3. Report on Hawaii Community Meetings

4. Legislative Actions

I. SSC Recommendations

J. Standing Committee Recommendations

K. Public Hearing

L. Council Discussion and Action

8. Pelagic and International Fisheries

A. Pelagic Total Allowable Catch (TAC) Framework (ACTION ITEM)

B. International Longline Shark Study

C. Longline Management

1. Guam Longline Area Closure (ACTION ITEM)

2. Hawaii Swordfish Effort Limit Modification (ACTION ITEM)

D. American Samoa and Hawaii Longline Reports

E. South Pacific Tuna Treaty and United States Longliners

F. Hawaii Longline Fishery and United Nations Food and Agriculture Organization (FAO) Code of Conduct

G. International Fisheries Management

1. Western and Central Pacific Fisheries Commission III, Apia, Samoa, Report

2. Tuna Regional Fishery Management Organizations Meeting, Kobe Japan, Report

3. Bycatch Consortium, Honolulu, Hawaii, Report

4. Inter-American Tropical Tuna Commission Bigeye Tuna/Yellowfin Tuna Management Meeting, La Jolla, California, Report

H. SSC Recommendations

I. Standing Committee Recommendations

J. Public Hearing

K. Council Discussion and Action

9 a.m. - 5 p.m. Friday, March 16, 2007

9. Program Planning

A. Magnuson Act Reauthorization

1. Environmental Review Process (PUBLIC HEARING)

2. Other Provisions

B. Report on State Disaster Relief Program

C. Council Aquaculture Policy

D. Status of Fishery Management Actions

E. Education and Outreach Report

F. Standing Committee Recommendations

G. Public Comment

H. Council Discussion and Action

10. Administrative Matters & Budget

A. Financial Reports

B. Administrative Reports

C. Meetings and Workshops

D. Council Family Changes

1. Advisory Group Changes

E. Standard Operating Procedures and Policies (SOPP)

F. Council Committee Assignments

G. Standing Committee Recommendations

H. Public Comment

I. Council Discussion and Action

11. Other Business

A. Next Meeting

Background Information

1. NWHI Monument-Hoomau Hookahua “Combining” (ACTION ITEM)

On June 15, 2006, President George W. Bush issued Presidential Proclamation No. 8031 establishing the Northwestern Hawaiian Islands Marine National Monument (Monument). The proclamation set apart and reserved the Northwestern Hawaiian Islands for the purpose of protecting the historic objects, landmarks, prehistoric structures and other objects of historic or scientific interest that are situated upon lands owned and controlled by the Federal Government of the United States. In establishing the NWHI monument, Proclamation No. 8031 assigns primary management responsibility of marine areas to the Secretary of Commerce, through the National Oceanic and Atmospheric Administration (NOAA) in consultation with the Secretary of the Interior. The Proclamation also directed the Secretaries to promulgate regulations to prohibit access to the Monument, restrict fishing in Ecological Reserves and Special Preservation Areas, establish annual catch limits for bottomfish and pelagic species, prohibit anchoring, and require VMS on all vessels, among other management measures. Regulations implementing these provisions were published at 71 FR 51134 on August 29, 2006.

At its 135th Council meeting held in October 2006, the Council was presented with information on the effects of measures on the NWHI bottomfish fishery and its operations, including the over representation of Ecological Reserves and Special Preservation Areas in the Hoomalu Zone (Both of the Ecological Zones and seven of the nine Special Preservation Areas are located in the Hoomalu Zone). As of February 2007, NOAA has not conducted an environmental review to assess the biological or social impacts of the monument designation. At its 137th Meeting, the Council may consider taking action to alleviate the of the Monument designation by considering options to alter the zoning structure of the NWHI permit areas.

2. Hawaii Bottomfish Overfishing-Federal Action (ACTION ITEM)

On May 27, 2005, NMFS informed the Council that the Hawaii Archipelagic bottomfish stock complex, which occurs in both Federal and state jurisdictions, was determined to be experiencing overfishing, with the primary problem being excess fishing mortality in the MHI. The Council prepared and transmitted to NMFS in May, 2006, Amendment 14 to the Bottomfish FMP, which proposed to close waters of Penguin and Middle Banks to fishing for bottomfish in order to end overfishing, however this action has not been processed by NMFS. Since the amendment transmittal, several notable and potentially significant things have occurred which may affect management of the bottomfish fishery in the Hawaiian Archipelago including: (A) a phase-out of the bottomfish fishery by 2011 in the NWHI as mandated through the Presidential Monument designation; (B) a new stock assessment was completed by PIFSC which concluded the required reduction in fishing mortality should be 24 percent rather than 15 percent as previously indicated to end overfishing; (C) Congress passed the newly reauthorized Magnuson-Stevens Act which contains new provisions that will affect management of the bottomfish fishery, including a requirement to move towards management incorporating total allowable catch (TAC) levels for all fisheries and a provision requiring State consistency with Federal fishery management plans; and (D) the State further revised their proposed new Bottomfish Restricted Areas in July 2006 resulting in reduced mortality reduction benefits.

In light of the events described above, the Council will consider several new management options to end overfishing in the bottomfish fishery. Options include a seasonal closure for both the commercial and recreational fishery which results in a 24 percent reduction of mortality; several different alternatives for management of the fishery using a total allowable catch (TAC) designed to result in the 24 percent reduction of fishing mortality including management using a TAC in combination with a limited access program, using a TAC with individual fishing quota (IFQ) allocation; using a TAC for the commercial sector and trip limits for the recreational sector; and combining a TAC with an annual seasonal closure during the period of highest spawning activity. At its 137th meeting, the Council may take action to modify the proposed bottomfish management recommendation or develop modified alternatives based on recommendations from advisory bodies and public comments received.

3. Pelagic TAC Framework (ACTION ITEM)

At its 137th meeting, the Council may take action to adjust the framework process within the Pelagics Fishery Management Plan (PFMP) to allow for the implementation of longline catch limits stemming from the decisions of the two Pacific tuna Regional Fishery Management Organizations (RFMOs).

International management and conservation of bigeye tuna in the Pacific is the responsibility of the Western and Central Pacific Fishery Commission (WCPFC) and the Inter-American Tropical Tuna Commission (IATTC). The two Pacific tuna RFMOs have already implemented limits on fleet-wide catches of bigeye tuna by longline vessels, and it is likely that further measures may also be applied to other tunas caught by longliners. Currently, there is no mechanism by U.S. catch limits established by an RFMO can be efficiently implemented through the Magnuson-Stevens Act (MSA) process by the Western Pacific Council. At its 136th meeting, the Council recommended that the framework process for the PFMP, implemented under Amendment 7 to the PFMP, be revised to give the Council the ability to implement catch limits for the harvesting of pelagic fish by longline vessels.

An amendment to the PFMP typically requires approximately one year for the completion of necessary documentation, analysis Secretarial review and approval, and implementation. Pacific RFMO tuna harvest limits are likely to change annually, based on the results of stock assessments and other changes in the fishery. Timely domestic implementation of catch limits stemming from the tuna RFMOs will require that abbreviated background work and documentation be prepared in advance of RFMO decisions. The framework process is designed for this situation. Under this process the Council will prepare and review analyses of anticipated impacts of a likely range of catch limits. This analysis will then be used by the Council to accept or modify the RFMO decisions under the MSA. All analyses will be subject to public review and comment, as will any proposed rule resulting from this process.

4. Guam Longline Area Closure (ACTION ITEM)

Until recently, longlining has not been conducted by U.S. vessels based out of ports in the Mariana Islands (Guam and the Commonwealth of the Northern Mariana Islands). In 2006, however, the Guam Fishermen's Cooperative (GFC) began operating a longline vessel, fishing primarily within the EEZ waters around Guam using a 60ft fishing vessel converted to longlining through assistance from the Council's Community Demonstration Project Program (CDPP).

However, the operations of the GFC vessel are limited due to a 50 nautical mile area closure for longline and purse seine vessels around the island of Guam and its offshore banks, implemented in 1992 through Amendment 5 to the Pelagics Fishery Management Plan (PFMP). At that time there was no domestic Guam longline fishery but troll fishermen were concerned about an influx of longline vessels from outside the territory following the expansion of the Hawaii longline fishery after 1987. In response to these concerns, the Council recommended the implementation of the 50 nm Guam longline area closure.

The original concerns about expansion of U.S. longline fishing home-ported out of Guam through vessels migrating from other parts of the US now appear to be unfounded. As such the area closures developed in the early 1990s may now be an unnecessary impediment to the continued growth of 'domestic' longlining on Guam. However, troll fishermen on Guam may still wish to see some form of protection from gear conflict with longline fishing. At its 137th meeting thus the Council may take action to modify the existing longline area closure boundaries or develop some form of exemption process which may allow controlled access to the closed area for longline vessels.

5. Hawaii Swordfish Effort Limit Modification (ACTION ITEM)

The Hawaii Longline Association (HLA) has petitioned the Western Pacific Council to eliminate current fishing effort limits for swordfish longline fishing and allow an expansion of Hawaii-based shallow-set fishing effort. HLA's petition cites new information establishing that sea turtle bycatch and mortality have been markedly reduced in this fishery to the extent practicable and is rare events. Moreover, the HLA petition states that limits on fishing effort in Hawaii do more harm than good for sea turtles by shifting fishing effort to foreign fisheries that have much higher sea turtle bycatch and mortality rates.

The Hawaii-based longline swordfish fishery began in 1988, and grew rapidly to become a major U.S. fresh fish supplier. By the late 1990s, the Hawaii-based swordfish fishery supplied 37 to 47 percent of the total annual U.S. domestic swordfish consumption. Until early 2001, the Hawaii-based longline shallow-set (swordfish-target) fishery was managed under Federal regulations in combination with the Hawaii-based longline deep-set (tuna-target) fishery. However, as a result of a highly dynamic regulatory environment that began in 2000, the two Hawaii-based longline fisheries are now separately managed. In March 2001, fishing restrictions were imposed that prohibited Hawaii-based longline vessels from targeting swordfish and, accordingly, Hawaii swordfish production collapsed. In late 2003, Federal regulations prohibiting the swordfish component of the Hawaii-based longline fishery were invalidated in Federal court. As a consequence, new fishery regulations were adopted effective April 2, 2004, which provide for limited shallow-set fishing effort (2,210 sets annually) subject to stringent operational requirements for 18.0 circle hooks, mackerel-type bait, and highly conservative incidental take limits adopted for protected sea turtle species.

Under the proposal advanced by HLA the current fishing effort limit of only 2,120 shallow sets each year would be eliminated. With the elimination of fishing effort-based restrictions, new sea turtle take limits would be adopted consistent with the expected level of shallow-set fishing effort. The HLA petition indicated that due to significant reductions in the rate of serious injuries and mortalities, the expected mortality would increase by less than 1 loggerhead sea turtle, and would remain the same or decrease for leatherback, green and olive ridley sea turtles, in comparison to the existing regulatory regime. In addition, the HLA petition asserts that by eliminating the considerable adverse impact on sea turtles from domestic consumption of swordfish caught in largely unregulated fisheries, the impact of global fishing on Pacific sea turtle populations as a whole would be reduced by hundreds of sea turtles each year.

At its 137th Meeting, the Council will consider the HLA petition and may decide to take action to modify the current management of the Hawaii swordfish fishery.

Special Accommodations

These meetings are physically accessible to people with disabilities. Requests for sign language interpretation or other auxiliary aids should be directed to Kitty M. Simonds, 808-522-8220 (voice) or (808)522-8226 (fax), at least 5 days prior to the meeting date.

Authority: 16 U.S.C. 1801 et seq.

Dated: February 16, 2007.
James P. Burgess,
Acting Director, Office of Sustainable Fisheries, National Marine Fisheries Service.

[FR Doc. E7-3137 Filed 2-22-07; 8:45 am]

BILLING CODE 3510-22-S